DEPARTMENT OF THE TREASURY

Submission for OMB Review; Comment Request

March 21, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before April 27, 2001 to be assured of consideration.

Internal Revenue Service (IRS)

OMB Number: 1545-0990.

Form Number: IRS Form 8610 and Schedule A (Form 8610).

Type of Review: Extension.

Title: Annual Low-Income Housing Credit Agencies Report (8610); and Carryover Allocation of Low-Income Housing Credit (Schedule A).

Description: State housing agencies file Form 8610 to transmit copies of Form 8609, Schedule(s) A (Form 8610), and binding agreements and election statements to the IRS. The Agencies use Schedule A (Form 8610) to report certain information contained in carryover allocation documents to the IRS.

Respondents: State, Local or Tribal Government.

Estimated Number of Respondents/Recordkeepers: 53.

Estimated Burden Hours Per Respondent/Recordkeeper:

| Form 8610 | Schedule A
Recordkeeping | 6 hr., 27 min | 3 hr., 21 min.
Learning about the law or the form | 1 hr., 17 min | 24 min.
Preparing and sending the form to the IRS | 1 hr., 27 min | 28 min.

Frequency of Response: Annually.

Estimated Total Reporting/Recordkeeping Burden: 5,961 hours.

OMB Number: 1545-1584.

Form Number: IRS Form 8859.

Type of Review: Extension.

Title: District of Columbia First-Time Homebuyer Credit.

Description: Form 8859 is used to claim the District of Columbia (DC) First-Time Homebuyer Credit. The information collected will be used to verify that the credit was computed correctly.

Respondents: Individuals or households.

Estimated Number of Respondents/Recordkeepers: 1,900.

Estimated Burden Hours Per Respondent/Recordkeeper:

Recordkeeping | 19 min.
Learning about the law or the form | 6 min.
Preparing the form | 22 min.
Copying, assembling, and sending the form to the IRS | 20 min.

Frequency of Response: Other (once).

Estimated Total Reporting/Recordkeeping Burden: 2,166 hours.

OMB Number: 1545-1709.

Form Number: IRS Form 8868.

Type of Review: Extension.

Title: Application for Extension of Time to File an Exempt Organization Return.

Description: Internal Revenue Code (IRC) 6081 permits the Secretary to grant a reasonable extension of time for filing any return, declaration, statement, or other document. This form is used by fiduciaries and certain exempt organizations, to request an extension of time to file their returns. The information is used to determine whether the extension should be granted.

Respondents: Not-for-profit institutions.

Estimated Number of Respondents/Recordkeepers: 248,932.

Estimated Burden Hours Per Respondent/Recordkeeper:

| Form 8868 Part I | Form 8868 Part II
Recordkeeping | 5 hr., 30 min | 5 hr., 15 min.
Learning about the law or the form | 6 min | 0 min.
Preparing and sending the form to the IRS | 11 min | 4 min.

Frequency of Response: On occasion.

Estimated Total Reporting/Recordkeeping Burden: 1,373,335 hours.

OMB Number: 1545-1730.

Regulation Project Number: REG-114998-98 Final.

Type of Review: Extension.

Title: Obligations of States and Political Subdivisions.

Description: Section 142(f)(4) of the Internal Revenue Code of 1986 permits a person engaged in the local furnishing of electric energy or gas that uses facilities financed with exempt facility bonds under section 142(a)(8) and that expands its service area in a manner inconsistent with the requirements of sections 142(a)(8) and 142(f) to make an election to ensure that those bonds will continue to be treated as tax-exempt bonds. The final regulations (1.142(f)-1) set forth the required time and manner of making this statutory election.

Respondents: State, Local or Tribal Government.

Estimated Number of Respondents: 15.

Estimated Burden Hours Per Respondent: 1 hour.

Frequency of Response: On occasion.

Estimated Total Reporting Burden: 15 hours.

Clearance Officer: Garrick Shear, Internal Revenue Service, Room 5244, 1111 Constitution Avenue, NW., Washington, DC 20224.

OMB Reviewer: Alexander T. Hunt, (202) 395-7860, Office of Management and Budget, Room 10202, New Executive Office Building, Washington, DC 20503.

Lois K. Holland,
Departmental Reports Management Officer.

[FR Doc. 01-7629 Filed 3-27-01; 8:45 am]

BILLING CODE 4830-01-P